DEPARTMENT OF LABOR

Employment and Training Administration

Investigations Regarding Eligibility To Apply For Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than September 9, 2019.

Interested persons are invited to submit written comments regarding the subject matter of the investigations to the Administrator, Office of Trade Adjustment Assistance, at the address shown below, not later than September 9, 2019.

The petitions filed in this case are available for inspection at the Office of the Administrator, Office of Trade Adjustment Assistance, Employment and Training Administration, U.S. Department of Labor, Room N-5428, 200 Constitution Avenue NW, Washington, DC 20210.

Signed at Washington, DC, this 6th day of August, 2019.
Hope D. Kinglock,
Certifying Officer, Office of Trade Adjustment Assistance.

Appendix

76 TAA Petitions Instituted Between 7/1/19 and 7/31/19
TA-W | Subject firm (petitioners) | Location | Date of institution | Date of petition
94955 | Citibank (State/One-Stop) | Sioux Falls, SD | 07/01/19 | 06/28/19
94956 | Elcam Inc. (State/One-Stop) | Saint Marys, PA | 07/01/19 | 06/28/19
94957 | Product Assurance Services (State/One-Stop) | Saint Marys, PA | 07/01/19 | 06/28/19
94958 | ATOS IT Solutions and Services (State/One-Stop) | Clovis, NM | 07/02/19 | 07/01/19
94959 | Semco Instruments, Inc. (Company) | Valencia, CA | 07/02/19 | 07/01/19
94960 | Sumitomo Electric (State/One-Stop) | Hillsboro, OR | 07/02/19 | 07/01/19
94961 | Treehouse Foods (Workers) | Battle Creek, MI | 07/02/19 | 07/01/19
94962 | X-Cel Optical Company (State/One-Stop) | Sauk Rapids, MN | 07/02/19 | 07/01/19
94963 | Altice USA (State/One-Stop) | Bethpage, NY | 07/03/19 | 07/02/19
94964 | Appalachian Regional Manufacturing (A.R.M.) (Workers) | Jackson, KY | 07/03/19 | 07/02/19
94965 | AT&T Business-Global Operations & Services (State/One-Stop) | Grand Rapids, MI | 07/03/19 | 07/02/19
94966 | IBM (Workers) | Waukesha, WI | 07/03/19 | 06/28/19
94967 | Providence Medford Medical Center (State/One-Stop) | Medford, OR | 07/03/19 | 07/02/19
94968 | Reflection Foods (State/One-Stop) | Tucson, AZ | 07/03/19 | 07/02/19
94969 | Volt Workforce Solutions (State/One-Stop) | Las Cruces, NM | 07/03/19 | 07/02/19
94970 | Hamon Deltak, Inc. (State/One-Stop) | Plymouth, MN | 07/05/19 | 07/03/19
94971 | TE Connectivity Limited (State/One-Stop) | Menlo Park, CA | 07/05/19 | 07/03/19
94972 | TMG Health, A Cognizant Company (Workers) | Amarillo, TX | 07/05/19 | 07/03/19
94973 | DXC Technology (State/One-Stop) | Plano, TX | 07/08/19 | 07/05/19
94974 | Leased Workers from Apex Systems, Eliassen Group, and TEKsystems (State/One-Stop) | Kirkland, WA | 07/08/19 | 07/03/19
94975 | Vesta Corporation (State/One-Stop) | Lake Oswego, OR | 07/09/19 | 07/08/19
94976 | Novo Nordisk (State/One-Stop) | Plainsboro Township, NJ | 07/10/19 | 07/09/19
94977 | Schwebels Baking Company (Workers) | Youngstown, OH | 07/10/19 | 07/09/19
94978 | Tramontina US Cookware, Inc. (Company) | Manitowoc, WI | 07/10/19 | 07/09/19
94979 | Carl Zeiss Vision (State/One-Stop) | Independence, MO | 07/11/19 | 07/10/19
94980 | Erie Coke (Union) | Erie, PA | 07/11/19 | 07/10/19
94981 | Masonite Corporation (Company) | Stockton, CA | 07/11/19 | 07/10/19
94982 | Eaton Corporation (State/One-Stop) | Belmond, IA | 07/12/19 | 07/11/19
94982A | Midwest Janitorial Service, Inc., Houghton International Inc., etc. (State/One-Stop) | Belmond, IA | 07/12/19 | 07/11/19
94983 | HP Inc. (State/One-Stop) | Vancouver, WA | 07/12/19 | 06/27/19
94984 | Salter Labs (State/One-Stop) | Vista, CA | 07/12/19 | 07/11/19
94985 | Sphera Solutions, Inc. (State/One-Stop) | Chicago, IL | 07/12/19 | 07/08/19
94986 | Assa Abloy Inc. (State/One-Stop) | New Haven, CT | 07/15/19 | 07/12/19
94987 | Blossom Clothing Inc. (Company) | Los Angeles, CA | 07/15/19 | 07/12/19
94988 | Ocwen Loan Servicing (State/One-Stop) | Fort Washington, PA | 07/15/19 | 07/12/19
94989 | Providence St. Joseph Health—Multiple Subsidiary Companies (State/One-Stop) | Irvine, CA | 07/15/19 | 07/12/19
94990 | Blackjewel/Revelation Energy (State/One-Stop) | Milton, WV | 07/16/19 | 07/15/19
94991 | Charter Communications (State/One-Stop) | Mililani, HI | 07/16/19 | 07/12/19
94992 | CoreLogic Solutions, LLC (State/One-Stop) | Bloomington, MN | 07/16/19 | 07/15/19
94993 | ET Publishing International LLC (Company) | Miami, FL | 07/16/19 | 07/15/19
94994 | Fargo Assembly of PA (Division of ECI) (State/One-Stop) | David City, NE | 07/16/19 | 07/15/19
94995 | John Hassell LLC (State/One-Stop) | Westbury, NY | 07/16/19 | 07/15/19
94996 | Navico (State/One-Stop) | Minneapolis, MN | 07/16/19 | 07/15/19
94997 | TMK IPSCO (State/One-Stop) | Camanche, IA | 07/16/19 | 07/15/19
94998 | State Street Corporation (State/One-Stop) | Kansas City, MO | 07/17/19 | 07/16/19
94999 | Synopsys, Inc. (State/One-Stop) | Hillsboro, OR | 07/17/19 | 07/16/19
95000 | Cleveland Hardware and Forging Company (State/One-Stop) | Cleveland, OH | 07/18/19 | 07/17/19
95001 | Shop-Vac dba Felchar Manufacturing Corporation (State/One-Stop) | Binghamton, NY | 07/18/19 | 07/17/19
95002 | P-D Valmiera Glass USA Corp. (Workers) | Dublin, GA | 07/18/19 | 07/10/19
95003 | API Supply Inc. (State/One-Stop) | Windber, PA | 07/19/19 | 07/19/19
95004 | Providence St. Joseph Health (State/One-Stop) | Renton, WA | 07/19/19 | 07/18/19
95005 | Commscope Technologies (State/One-Stop) | Forest, VA | 07/22/19 | 07/19/19
95006 | Pro-Mark, LLC (Company) | North Salt Lake, UT | 07/22/19 | 07/19/19
95007 | Union Pacific Railroad Company (State/One-Stop) | Hermiston, OR | 07/22/19 | 07/19/19
95008 | Vie de France Yemazaki, Inc. (State/One-Stop) | Vienna, VA | 07/22/19 | 07/19/19
95009 | The Worth Collection Limited (Workers) | New York, NY | 07/23/19 | 06/20/19
95010 | Sitel (State/One-Stop) | Caribou, ME | 07/23/19 | 07/22/19
95011 | Black Diamond Equipment Limited (State/One-Stop) | Salt Lake City, UT | 07/24/19 | 07/23/19
95012 | Frontier Communications (State/One-Stop) | Norwich, NY | 07/24/19 | 07/23/19
95013 | Medtronic Plc. (Company) | Goleta, CA | 07/24/19 | 07/23/19
95014 | Delphi Powertrain Technologies (Workers) | West Henrietta, NY | 07/25/19 | 07/21/19
95015 | MediaKind (State/One-Stop) | Santa Clara, CA | 07/25/19 | 07/24/19
95016 | Burke Industries (Delaware), LLC (State/One-Stop) | San Jose, CA | 07/25/19 | 07/24/19
95017 | AT&T Business-Global Operations & Services (State/One-Stop) | Grand Rapids, MI | 07/26/19 | 07/24/19
95018 | Flexsteel Industries (State/One-Stop) | Harrison, AR | 07/26/19 | 07/25/19
95019 | REC Solar Grade Silicon LLC (State/One-Stop) | Moses Lake, WA | 07/26/19 | 07/24/19
95020 | Kimball Hospitality Inc. (State/One-Stop) | Martinsville, VA | 07/29/19 | 07/26/19
95021 | Aon Affinity (Company) | Fort Washington, PA | 07/30/19 | 07/29/19
95022 | Glen-Gery (State/One-Stop) | Manassas, VA | 07/30/19 | 07/30/19
95023 | AJ Oster (State/One-Stop) | Warwick, RI | 07/31/19 | 07/30/19
95024 | AT&T Services, Inc. (State/One-Stop) | Brecksville, OH | 07/31/19 | 07/30/19
95025 | FutureWei Technologies, Inc. (State/One-Stop) | Framingham, MA | 07/31/19 | 07/30/19
95026 | Hexagon Manufacturing Intelligence (State/One-Stop) | North Kingstown, RI | 07/31/19 | 07/30/19
95027 | KCI USA, Inc. (Company) | San Antonio, TX | 07/31/19 | 07/30/19
95028 | State Street Corporation (State/One-Stop) | Boston, MA | 07/31/19 | 07/30/19
95029 | Vesuvius USA Corp (State/One-Stop) | Dillon, SC | 07/31/19 | 07/30/19

[FR Doc. 2019-18622 Filed 8-28-19; 8:45 am]

BILLING CODE 4510-FN-P